DEPARTMENT OF HEALTH AND HUMAN SERVICES

Food and Drug Administration

[Docket No. 1998N-0359]

Program Priorities in the Center for Food Safety and Applied Nutrition; Request for Comments

AGENCY: Food and Drug Administration, HHS.

ACTION: Notice; request for comments.

SUMMARY: The Food and Drug Administration (FDA) is requesting comments concerning the establishment of program priorities in the Center for Food Safety and Applied Nutrition (CFSAN) for fiscal year (FY) 2005. As part of its annual planning, budgeting, and resource allocation process, CFSAN is reviewing its programs to set priorities and establish work product expectations. This notice is being published to give the public an opportunity to provide input into the priority-setting process.

DATES: Submit written or electronic comments by August 9, 2004.

ADDRESSES: Submit written comments concerning this document to the Division of Dockets Management (HFA-305), Food and Drug Administration, 5630 Fishers Lane, rm. 1061, Rockville, MD 20852. Submit electronic comments to http://www.fda.gov/dockets/ecomments.

FOR FURTHER INFORMATION CONTACT: Donald J. Carrington, Center for Food Safety and Applied Nutrition (HFS-666), Food and Drug Administration, 5100 Paint Branch Pkwy., College Park, MD 20740, e-mail: Dcarring@cfsan.fda.gov, 301-436-1697.

SUPPLEMENTARY INFORMATION:

I. Background

On April 29, 2004, CFSAN released a document entitled “FY 2004 CFSAN Program Priorities.” The document, a copy of which is available on CFSAN's Web site (www.cfsan.fda.gov) or from the contact person listed in the FOR FURTHER INFORMATION CONTACT section), constitutes the Center's priority workplan for FY 2004 (i.e., October 1, 2003, through September 30, 2004). The FY 2004 workplan is based on input we received from our stakeholders (see 68 FR 33727, June 5, 2003), as well as input generated internally. The primary focus is: “Where do we do the most good for consumers?”

In addition to our continued emphasis on enhancing the security of the nation's food supply, the FY 2004 workplan continues to place a high priority on food safety, food additives, dietary supplements, and food biotechnology. It also reflects a commitment to revitalize and bolster our nutrition program and improve the health of the public by empowering people to make healthy choices in their daily diets. We also are working to ensure the information consumers receive is scientifically valid and easily understood.

The FY 2004 workplan emphasizes eight additional program areas and cross-cutting areas: (1) Nutrition, health claims and labeling; (2) cosmetics; (3) enhancing the science base; (4) international activities; (5) enhancing internal processes; (6) focused economic-based regulations; (7) equal employment opportunity/diversity initiatives; and (8) management initiatives.

The format of the FY 2004 workplan was changed from previous years. It was formatted into the following four sections:

(1) Assuring Food Safety and Security,

(2) Improving Nutrition and Dietary Supplement Safety,

(3) Assuring Food and Cosmetic Safety, and

(4) Assuring Food Safety: Cross cutting Areas.

Similar to previous years, the FY 2004 workplan contained two lists of activities—the “A-list” and the “B-list”. Our goal is to fully complete at least 90 percent of the “A-list” activities by the end of the fiscal year, September 30, 2004. Activities on the “B-list” are those we plan to make progress on, but may not complete before the end of the fiscal year.

CFSAN intends to issue a progress report on what program priority activities already have been completed to date in FY 2004, as well as any adjustments in the workplan (i.e., additions or deletions) for the balance of the fiscal year.

The 2004 workplan primarily represents new or different initiatives identified for 2004, as well as priority initiatives that are being continued from the 2003 workplan. The workplan does not identify many important ongoing activities, such as CFSAN's base programs in data collection, research, and enforcement or the myriad of unanticipated issues that often require a substantial investment of CFSAN resources (e.g., response to outbreaks of foodborne illness).

II. 2005 CFSAN Program Priorities

FDA is requesting comments on new program areas or activities that CFSAN should add as high priorities for FY 2005. The input will be used to develop CFSAN's workplan for FY 2005 (i.e., October 1, 2004, through September 30, 2005).

The format of the 2005 workplan will be similar to last year's workplan. FDA expects there will be considerable continuity between the 2004 and 2005 workplans. For example, initiatives aimed at increasing the security of our country's food supply will continue to be a high priority in FY 2005. FDA requests comments on other broad program areas that should continue to be a priority in FY 2005.

FDA intends to make the FY 2005 workplan available in the fall of 2004.

III. Comments

Interested persons may submit to the Division of Dockets Management (see ADDRESSES) written or electronic comments regarding this document. Two paper copies of any comments are to be submitted, except that individuals may submit one paper copy. Comments are to be identified with the docket number found in brackets in the heading of this document. Received comments may be seen in the Division of Dockets Management between 9 a.m. and 4 p.m., Monday through Friday.

Dated: June 2, 2004.
Jeffrey Shuren,
Assistant Commissioner for Policy.

[FR Doc. 04-14303 Filed 6-23-04; 8:45 am]

BILLING CODE 4160-01-S